DEPARTMENT OF ENERGY

Federal Energy Regulatory Commission

Combined Notice of Filings

December 07, 2010.

Take notice that the Commission has received the following Natural Gas Pipeline Rate and Refund Report filings:

Docket Numbers: RP11-1542-000.

Applicants: Kinder Morgan Interstate Gas Transmission LLC.

Description: Kinder Morgan Interstate Gas Transmission LLC submits tariff filing per 154.204: Discount Type Adjustments for Negotiated Rates to be effective 12/24/2010.

Filed Date: 11/24/2010.

Accession Number: 20101124-5167.

Comment Date: 5 p.m. Eastern Time on Friday, December 10, 2010.

Docket Numbers: RP11-1594-000.

Applicants: Kern River Gas Transmission Company.

Description: Kern River Gas Transmission Company submits tariff filing per 154.203: 2010 Compliance Filing 12/03/2010 RP04-274 to be effective 8/19/2010.

Filed Date: 12/03/2010.

Accession Number: 20101203-5150.

Comment Date: 5 p.m. Eastern Time on Wednesday, December 15, 2010.

Docket Numbers: RP11-1595-000.

Applicants: ANR Pipeline Company.

Description: ANR Pipeline Company submits tariff filing per 154.203: RP10-940 Compliance to be effective 9/30/2010.

Filed Date: 12/03/2010.

Accession Number: 20101203-5157.

Comment Date: 5 p.m. Eastern Time on Wednesday, December 15, 2010.

Docket Numbers: RP11-1596-000.

Applicants: Questar Overthrust Pipeline Company.

Description: Questar Overthrust Pipeline Company submits tariff filing per 154.204: Negotiated Rate Filing WIC TSA No. 4228 to be effective 12/1/2010.

Filed Date: 12/03/2010.

Accession Number: 20101203-5171.

Comment Date: 5 p.m. Eastern Time on Wednesday, December 15, 2010.

Docket Numbers: RP11-1597-000.

Applicants: Tennessee Gas Pipeline Company.

Description: Tennessee Gas Pipeline Company's Application for Abandonment and Request for Approval of Offer of Settlement.

Filed Date: 12/03/2010.

Accession Number: 20101203-5254.

Comment Date: 5 p.m. Eastern Time on Wednesday, December 15, 2010.

Docket Numbers: RP11-1598-000.

Applicants: Steuben Gas Storage Company.

Description: Steuben Gas Storage Company submits its Baseline Electronic Tariff Compliance Filing, to be effective 12/6/2010.

Filed Date: 12/07/2010.

Accession Number: 20101207-5000.

Comment Date: 5 p.m. Eastern Time on Monday, December 20, 2010.

Docket Numbers: RP11-1599-000.

Applicants: Bobcat Gas Storage.

Description: Bobcat Gas Storage submits tariff filing per 154.204: LINK System Implementation to be effective. 3/1/2011.

Filed Date: 12/07/2010.

Accession Number: 20101207-5027.

Comment Date: 5 p.m. Eastern Time on Monday, December 20, 2010.

Docket Numbers: RP11-1600-000.

Applicants: Bobcat Gas Storage.

Description: Bobcat Gas Storage submits tariff filing per 154.204: Enhancement and Cleanup Changes to be effective 3/1/2011.

Filed Date: 12/07/2010.

Accession Number: 20101207-5050.

Comment Date: 5 p.m. Eastern Time on Monday, December 20, 2010.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC. 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-31837 Filed 12-17-10; 8:45 am]

BILLING CODE 6717-01-P